ENVIRONMENTAL PROTECTION AGENCY

40 CFR Part 52

[EPA-R07-OAR-2015-0582; FRL-9935-00-Region 7]

Approval and Promulgation of Air Quality Implementation Plans; State of Iowa; 2015 Iowa State Implementation Plan for the 2008 Lead Standard

AGENCY: Environmental Protection Agency (EPA).

ACTION: Proposed rule.

SUMMARY: The Environmental Protection Agency (EPA) proposes to grant full approval of Iowa's attainment demonstration State Implementation Plan (SIP) for the lead National Ambient Air Quality Standard (NAAQS) nonattainment area of Council Bluffs, Pottawattamie County, Iowa, received by EPA on February 9, 2015. The applicable standard addressed in this action is the lead NAAQS promulgated by EPA in 2008. EPA believes that the SIP submitted by the state satisfies the applicable requirements of the Clean Air Act, and will bring the designated portions of Council Bluffs, Iowa into attainment of the 0.15 microgram per cubic meter (ug/m³) lead NAAQS.

DATES: Comments must be received on or before November 2, 2015.

ADDRESSES: Submit your comments, identified by Docket ID No. EPA-R07-OAR-2015-0582, by one of the following methods:

SUPPLEMENTARY INFORMATION:

1. www.regulations.gov: Follow the on-line instructions for submitting comments.

2. Email: doolan.stephanie@epa.gov.

3. Mail or Hand Delivery: Stephanie Doolan, Environmental Protection Agency, Air Planning and Development Branch, 11201 Renner Boulevard, Lenexa, Kansas 66219.

Instructions: Direct your comments to Docket ID No. EPA-R07-OAR-2015-0582. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit http://www2.epa.gov/dockets/commenting-epa-dockets. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket. All documents in the electronic docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Air Planning and Development Branch, 11201 Renner Boulevard, Lenexa, Kansas 66219. EPA requests that you contact the person listed in the FOR FURTHER INFORMATION CONTACT section to schedule your inspection. The interested persons wanting to examine these documents should make an appointment with the office at least 24 hours in advance.

FOR FURTHER INFORMATION CONTACT: Stephanie Doolan, Environmental Protection Agency, Air Planning and Development Branch, 11201 Renner Boulevard, Lenexa, Kansas 66219 at (913) 551-7719, or by email at doolan.stephanie@epa.gov.

SUPPLEMENTARY INFORMATION: Throughout this document “we,” “us,” or “our” refer to EPA.

Table of Contents

I. What is being addressed in this document?

II. Have the requirements for the approval of a SIP revision been met?

III. What action is EPA taking?

IV. Background

V. Technical Review of the Attainment Demonstration SIP Related to the 2008 Lead NAAQS

A. Facility Description

1. Griffin Pipe

2. Alter Metal Recycling

B. Model Selection, Meteorological and Emissions Inventory Input Data

C. Control Strategy

1. Griffin Pipe

2. Alter Metal Recycling

D. Modeling Results

E. Reasonably Available Control Measures (RACM) Including Reasonably Available Control Technology (RACT) and Reasonable Further Progress (RFP)

F. Attainment Demonstration

G. New Source Review (NSR)

H. Contingency Measures

I. Enforceability

VI. Proposed Action

VII. Incorporation by Reference

VIII. Statutory and Executive Order Reviews

I. What is being addressed in this document?

In this document, EPA is addressing Iowa's attainment demonstration State Implementation Plan (SIP) for the lead National Ambient Air Quality Standard (NAAQS) nonattainment area in portions of Council Bluffs, Pottawattamie County, Iowa. The applicable standard addressed in this action is the lead NAAQS promulgated by EPA in 2008. EPA believes that the SIP submitted by the state satisfies the applicable requirements of the Clean Air Act (CAA) identified in EPA's Final Rule (73 FR 66964, October 15, 2008), and will bring the area into attainment of the 0.15 microgram per cubic meter (μg/m³) lead NAAQS.

II. Have the requirements for the approval of a SIP revision been met?

The state submission has met the public notice requirements for SIP submissions in accordance with 40 CFR 51.102. The submission also satisfied the completeness criteria of 40 CFR part 51, appendix V. In addition, the revision meets the substantive SIP requirements of the CAA, including section 110 and implementing regulations.

III. What action is EPA taking?

EPA is proposing to grant full approval of Iowa's attainment demonstration SIP for the 2008 lead NAAQS. EPA is proposing this action in order to solicit comments. Final rulemaking will occur after consideration of any comments received.

IV. Background

EPA established the National Ambient Air Quality Standards (NAAQS) for lead on October 5, 1978 (43 FR 46246). On October 15, 2008, EPA established a new lead NAAQS of 0.15 μg/m³ in air, measured as a rolling three-month average. (73 FR 66964). On November 22, 2011, portions of Councils Bluffs, Pottawattamie County, Iowa were designated as nonattainment for the 2008 lead NAAQS. (76 FR 72097). Under sections 191(a) and 192(a)of the CAA, Iowa is required to submit to EPA an attainment demonstration SIP revision for lead and to demonstrate the nonattainment area will reach attainment of the 2008 lead NAAQS no later than five years from the date of the nonattainment area designation.

V. Technical Review of the Attainment Demonstration SIP for the 2008 Lead NAAQS

A. Facility Description

There are two lead-emitting sources contributing to the Council Bluffs lead nonattainment area: Griffin Pipe Products Company, L.L.C. (Griffin Pipe); and Alter Metal Recycling (Alter). A description of the operation of these two facilities is presented below.

1. Griffin Process Description

Griffin Pipe manufactures ductile iron pressure pipe for potable water transmission and wastewater collection. The facility is classified as a gray iron foundry in accordance with the North American Industry Classification System (NAICS). Griffin Pipe is considered a major source for CAA Title V and Prevention of Significant Deterioration (PSD) permitting purposes.

Griffin Pipe's Council Bluffs facility covers more than 105,000 square feet and is located on a 19 acre site along the Missouri River bottoms. It produces ductile iron pressure pipe in 20 foot lengths and diameters ranging from six to 48 inches which are stored on the property until off-site shipment. There are paved haul routes on-site for the trucks that pick up the product for off-site transport. There is also a rail spur that traverses the south side of the property.

The hot iron required in the pipe manufacturing process is produced in a cupola. The cupola is charged with raw materials including coke, scrap iron, scrap steel, and fluxes. The scrap metal primarily comes from Alter Recycling which is located to the south of Griffin Pipe and is part of the nonattainment area, as discussed in paragraph V.A.2 below. After the molten iron leaves the cupola, it is treated in a desulfurization and magnesium inoculation processes. Desulfurization removes undesirable sulfur from the metal and magnesium inoculation uses magnesium to give the metal the physical properties needed to produce the ductile iron pipe. Lead present in the scrap metal is emitted as the metals are melted in the cupola, treated in the desulfurization and magnesium inoculation processes, and cast.

On December 7, 2010, the state issued a Prevention of Significant Deterioration (PSD) air permit to the facility. As a part of this permit, the facility installed air pollution controls in order to demonstrate that the facility met the Best Available Control Technology (BACT) criteria. Controls implemented in 2011 included: Replacement of the existing wet scrubber system for the cupola furnace with a baghouse; addition of a second baghouse to control emissions from the magnesium inoculation and desulfurization processes; and installation of two new chemical storage silos, one for a chemical that will be added to the gas stream after exiting cupola and before the baghouse for sulfur dioxide control, and the other for a chemical to be added to the gas stream for the treatment of heavy metals in the baghouse. The facility also began implementing a scrap management plan to control the amount of lead contained in the scrap metal it processes as a part of the PSD permit.

On May 3, 2014, Griffin Pipe ceased operations. The facility has notified IDNR that it intends to restart operations in the future; thus, the attainment demonstration SIP contains an Administrative Order on Consent between Griffin Pipe and IDNR that requires written notification to be provided to IDNR at least 60 days prior to the date that the Facility resumes operation, and contains control requirements that apply upon resumption of Facility operations.

2. Alter Metal Recycling Process Description

Alter Metal Recycling is one of several scrap material processing center associated with Alter Trading Corporation, a privately held company with offices and processing centers across the central U.S. The Alter Recycling property occupies approximately 29 acres to the south and east of Griffin Pipe. The processing center receives scrap metal from a variety of sources, including used cars, and operates a shredder (hammer mill) to reduce the size of the incoming material. The facility is considered a minor source with regard to the State of Iowa's air permitting program. Lead emissions from Alter Recycling occur predominantly from fugitive emissions associated with vehicle traffic on facility roadways when lead-containing silt on roadways becomes airborne.

B. Model Selection, Meteorological and Emissions Inventory Input Data

Iowa conducted air dispersion modeling to evaluate the effectiveness of the proposed control strategy. The model, AERMOD, was utilized and is EPA's preferred model for demonstrating attainment of the lead NAAQS. AERMOD estimates the combined ambient impact of sources by simulating Gaussian dispersion of emissions plumes. Emission rates, wind speed and direction, atmospheric mixing heights, terrain, plume rise from stack emissions, initial dispersion characteristics of fugitive sources, particle size and density are all factors considered by the model when estimating ambient impacts. Iowa performed five different dispersion modeling analyses for the 2008 lead NAAQS for the Council Bluffs nonattainment area. Two analyses were conducted to determine the cumulative impacts of both facilities under two operational configurations at Griffin Pipe, Options A and B, which are described below in greater detail. Three additional analyses were conducted to determine the impacts of Griffin Pipe under both Options A and B on Alter Recycling, and the impact of Alter Recycling on Griffin Pipe. The results of the analyses will be discussed in more detail in Section V.C. of this document.

Iowa used the surface and upper air meteorological data from the Omaha airport (KOMA) for years 2008 through 2012. EPA recommends the use of five years of meteorological data for the model (40 CFR part 51, appendix W, section 8.3.1.2). EPA conducted a review of the meteorological data used for the modeling and agreed with Iowa's determination that it is representative of meteorological conditions in the area of Griffin Pipe and Alter Recycling. The meteorological data were run through AERMOD's pre-processors to make the data usable by the model.

As required by Section 172(c)(3) of the CAA, a revised emission inventory was developed for this nonattainment area. Potential emissions rates for the point sources were developed from stack test data, process information, engineering assessment, and evaluation of the levels necessary to achieve attainment of the 2008 Pb NAAQS.

Iowa selected 2010 as the base year for lead emissions inputs to the model. As stated above, Griffin Pipe completed the installation of its emissions control projects under the PSD permit in 2011, so emissions estimates before these projects were completed are more representative of base case conditions. Emissions from 2010 also correlate with the meteorological data used to input the model. Emissions for the haul routes were based on calculated emission rates from silt data collected by sampling haul routes at both Griffin Pipe and Alter Recycling. The haul route emissions were based on conservative assumptions regarding haul route traffic and hours of operation over a one-year period. The emissions calculations for haul route traffic are provided in appendix A of the Attainment SIP which is available in the docket.

Point source emissions from Griffin Pipe occur primarily from melting metal, a hot iron desulfurization process, a magnesium inoculation process and metal casting. The melting process uses a cupola furnace that is charged with coke, scrap iron and steel, and fluxes (inert materials) as raw materials. As the materials are heated, melted and moved through the casting process, lead in the scrap is released and vented through stacks and roof vents. Emissions represented in the model are from release points, stack emissions validated by stack test data, and fugitive emissions calculated using field measurements wherever possible or estimated based on EPA's AP-42 guidelines.¹

¹ AP-42, Compilation of Air Pollutant Emission Factors, Fifth Edition, http://www.epa.gov/ttnchie1/ap42/.

Alter Recycling lead emissions were calculated by estimating the inbound and outbound truck traffic on haul routes on the facility's property. Other activities conducted by the facility that could potentially result in lead emissions, such as torch cutting and operation of the hammer mill, are estimated to be de minimis and therefore were not included in the modeling and development of control measures.

Lead emissions estimates for base year 2010 are provided in Table 1 below. Note that haul route emissions provided are based on worst-case estimates and as such are likely overestimates.

Table 1—Lead Emissions Estimates
[Pottawattamie County Lead Nonattainment Area]
Facility name | Source type | 2010 Emissions tons per year (tpy) ᵃ
Griffin Pipe | Point | 0.7447
| Fugitive | 0.2570
Alter Recycling | Fugitive | 0.7182
Total Emissions |  | 1.7564
ᵃ Note that the emissions listed do not total exactly due to rounding when summing individual emissions units. See Section 3, 2010 Base-year Lead Emissions Inventory, of the Iowa SIP for greater detail.

In accordance with 40 CFR part 51, appendix W, background concentrations must be considered when determining NAAQS compliance. Background concentrations are intended to include impacts attributable to natural sources, nearby sources (excluding the dominant source(s)), and unidentified sources. The calculated background concentration includes all sources of lead not already included in the model run script. The background concentration includes distant sources of lead or naturally occurring lead in soils that has become re-entrained in the atmosphere.

The background value is calculated by averaging the monitored concentrations of lead in air from the monitor near the intersection of 8th Avenue and 27th Street in Council Bluffs, Iowa. The data included in the background calculation are those collected on days when the predominant wind direction was northerly (from the monitor toward the facility), originating from 270 to 90 degrees. The data when the predominant wind direction was blowing from the dominant sources toward the monitor were excluded from the background calculation. The calculated background value using the monitoring data is 0.01 µg/m³.

EPA conducted an independent analysis of the data from the monitor and corresponding wind direction to verify the background concentration calculated by Iowa. Based on its independent analysis, EPA agrees that the calculated value represents a conservative estimate of background during the study period.

C. Control Strategy

The following describes the control strategy for each facility significantly contributing to the nonattainment area. The control strategy for Griffin Pipe is detailed in the Administrative Order on Consent, appendix B of the attainment SIP. The control strategy for Alter Metal Recycling is detailed in the Construction Permit issued to the facility, which is appendix C of the attainment SIP.

1. Griffin Pipe

On May 3, 2014, Griffin Pipe ceased operations at its Council Bluffs facility. Because the shutdown occurred during the development of the attainment SIP, the state worked with the facility to develop and Administrative Order on Consent which outlines the requirements and options for the facility when it restarts operations at its Council Bluffs facility. At Griffin Pipe's request, the facility was given two options for control measures to comply with the lead NAAQS which are detailed in attachments A and B of the Administrative Consent Order between Iowa and Griffin Pipe. “Option A” consists of control measures in the form of emissions limits for point sources as follows:

Table 2—Griffin Pipe Lead Emission Limits “Option A”
Source description | EP ID | lb/hr ᵇ
Cupola (EU-2) | EP-2A | 0.282/0.046 ᶜ
Desulfurization (EU-3) | EP-3 | 0.0018.
Bull Ladle (EU-3)
Magnesium Inoculation (EU-4)
Magnesium Inoculation—uncaptured (EU-4) | EP-7A | 0.0026.
Ladle Preheat—uncaptured (EU-19)
Desulfurization—uncaptured (EU-2) | EP-7B | 0.0372.
Bull Ladle—uncaptured (EU-3)
Small Diameter Casting (EU-6)
Small Diameter Casting (EU-6) | EP-6A | 0.0043.
Building Emissions | EP-6B | 0.0025.
Large Diameter Casting (EU-29) | EP-29 | 0.0025.
| EP-29A |
Cupola Charge Handling (EU-17) | FUG1 | 0.00143.
Traffic Pathways | N/A | Not applicable ᵈ
ᵇ The emission limit is expressed as the average of three test runs.
ᶜ The 0.282 lb/hr is necessary to meet the 2008 Lead NAAQS; however, a lower emission limit of 0.046 lb/hr is required by the Consent Decree between EPA and Griffin Pipe United States v. Griffin Pipe Products., LLC (Civil Action No. 1:14-cv-00027-JAJ-RAW). The lower value is the SIP enforceable emission limit; the presentation of both limits in the SIP is to merely acknowledge that the higher emissions limit is RACT.
ᵈ The emission limits for Traffic Pathways is 0.002 tons per rolling calendar quarter to correspond with the 2008 Lead NAAQS which is also based on a rolling calendar quarter.

For traffic pathways (haul routes), the emissions limit of 0.002 tons per rolling calendar quarter correlates to a lead silt loading content of 0.00016 g/m². This lead emission limit represents a 95 percent reduction over the baseline lead levels assuming maximum potential operation. “Option A” also contains an operational limit of 1,250 hours per rolling calendar quarter which is not contained in “option B.”

Griffin Pipe requested “option B” which includes adding a baghouse. Adding an additional baghouse to capture desulfurization (EU-2) and bull ladle capture (EU-3), allows for more operational flexibility in other areas, such as an increase in the silt loading for the traffic pathways. Below are the emission limits by unit under “option B.”

Table 3—Griffin Pipe Lead Emission Limits “Option B”
Source description | EP ID | lb/hr ᵉ
Cupola (EU-2) | EP-2A | 0.282/0.046 ᶠ
Desulfurization (EU-3) | EP-3 | 0.02.
Bull Ladle (EU-3)
Magnesium Inoculation (EU-4)
Magnesium Inoculation—uncaptured (EU-4) | EP-7A | 0.0075.
Ladle Preheat—uncaptured (EU-19)
Desulfurization—secondary capture (EU-2) | EP-7B | 0.0025.
Bull Ladle—secondary capture (EU-3)
Small Diameter Casting (EU-6)
Small Diameter Casting (EU-6) | EP-6A | 0.0043.
Building Emissions | EP-6B | 0.0015.
Large Diameter Casting (EU-29) EP-29 | 0.0025.
EP-29A
Cupola Charge Handling (EU-17) | FUG1 | 0.00143.
Traffic Pathways | N/A | Not applicable ᵍ
ᵉ The emission limit is expressed as the average of three test runs.
ᶠ The 0.282 lb/hr is necessary to meet the 2008 Lead NAAQS; however, a lower emission limit of 0.046 lb/hr is required by the Consent Decree between EPA and Griffin Pipe United States v. Griffin Pipe Products., LLC (Civil Action No. 1:14-cv-00027-JAJ-RAW). The lower value is the SIP enforceable emission limit; the presentation of both limits in the SIP is to merely acknowledge that the higher emissions limit is RACT.
ᵍ The emission limits for Traffic Pathways is 0.004 tons per rolling calendar quarter to correspond with the 2008 Lead NAAQS which is also based on a rolling calendar quarter

In “option B,” the emissions limit of 0.004 tons per rolling calendar quarter correlates to a lead silt loading content of 0.00032 g/m². This lead emission limit represents a 90 percent reduction over the baseline lead levels assuming maximum potential operation.

Both options contain the same performance testing and work practices requirements, including,

(1) The total production rate shall not exceed 235,150 tons of metal charged per rolling 12-month period.

(2) Bulk material shipment or deliveries of product, waste and raw materials shall only occur from 7 a.m. to 5 p.m. daily.

(3) Standard Operating Procedures (SOPs) for work practices to minimize emissions from the cupola charge handling (EU-17) and the scrap management plan for minimizing the amount of lead introduced to process as charge material are included as attachments to the Administrative Order on Consent between Griffin Pipe and Iowa.

(4) Limitations on public access to the facility at all property boundary lines.

(5) Fugitive dust control by sweeping all paved truck traffic routes once per day using a Tymco DST-4 Sweeper or functional equivalent as approved by the state. The Tymco DST-4 Sweeper is equipped with a HEPA filter to capture lead-contaminated particulates rather than emitting them to ambient air. Sweeping is required to begin within seven days after resuming operations. Exceptions to the sweeping are as follows:

a. If sweeping cannot be accomplished due to daytime ambient air temperatures less than 35 degrees F or weather that creates hazardous driving conditions, then the sweeping shall be postponed and resume as soon after the scheduled date as the conditions preventing the sweeping have abated.

b. Paved road sweeping need not occur when a rain gauge located at the site indicates that at least 0.2 inches of precipitation (water equivalent) has occurred within the preceding 24-hour time period. However road sweeping shall resume within 24-hours after the precipitation event has ended.

c. Paved road sweeping need not occur when the facility experiences no production or shipping activities on that calendar day.

(6) If sweeping cannot be accomplished for the entire month due to low ambient temperatures or hazardous weather, silt load testing is not required for that month.

(7) In addition to the emissions limits for traffic pathways listed for “option A” and “option B” above, surface total silt loading or lead silt loading on the traffic pathways shall not exceed 0.64 g/m² or 0.00016 g/m², respectively, based on a three-month rolling average.

(8) Silt load sampling conducted at a minimum of three locations representative of normal conditions and not within four hours of sweeping.

(9) The owner or operator shall take reasonable precautions to prevent the discharge of visible emissions of fugitive dust beyond the lot line of the property.

When Griffin Pipe seeks to resume operations, it is required to provide at least a sixty day notice to the state and adhere to all permitting and/or obligations of the Administrative Order on Consent prior to restarting operations.

2. Alter Metal Recycling

At Alter Metal Recycling, the control strategy to attain the 2008 Lead NAAQS consists of a lead limit in silt for traffic pathways (e.g., truck haul routes) of 0.01 tons of lead per rolling calendar quarter average. This correlates to a lead silt content of 0.00281 g/m² under maximum potential operations, defined as all raw material and product shipped or received by truck. This silt content limit is based on a 95 percent reduction over baseline lead levels. Based on empirical silt sampling, the total amount of silt that correlates with 0.00281 g/m² lead is 2.7 g/m²; thus, this amount has been established as a surrogate for the purposes of determining SIP compliance.

Other operating limits in Alter Metal Recycling's permit include:

(1) The facility must complete paving of haul routes identified by the Construction Permit (appendix C of the attainment SIP) as segments 7, 14, 15 and 16 by October 31, 2015. By this same date, the facility also must cease the use of haul road segment 17.

(2) Fugitive dust control by sweeping all paved truck traffic routes once per day using a Tymco DST-4 Sweeper or functional equivalent as approved by the state. Sweeping is required to begin within seven days after resuming operations. Exceptions to the sweeping are as follows:

a. If sweeping cannot be accomplished due to daytime ambient air temperatures less than 35 degrees F or weather that creates hazardous driving conditions, then the sweeping shall be postponed and resume as soon after the scheduled date as the conditions preventing the sweeping have abated.

b. Paved road sweeping need not occur when a rain gauge located at the site indicates that at least 0.2 inches of precipitation (water equivalent) has occurred within the preceding 24-hour time period. However road sweeping shall resume within 24-hours after the precipitation event has ended.

c. Paved road sweeping need not occur when the facility experiences no production or shipping activities on that calendar day.

(3) If sweeping cannot be accomplished for the entire month due to low ambient temperatures or hazardous weather, silt load testing is not required for that month.

(4) The haul road surface silt loading shall not exceed 2.70 g/m².

(5) The facility is limited to shipping (inbound and outbound) material between the hours of 5 a.m. to 8 p.m., Monday through Friday, and 8 a.m. to 12 p.m. on Saturday. The facility is also limited to processing and shipping (inbound and outbound) no more than 946,000 tons of material per rolling 12-month period. Internal transfers at the facility are limited to Monday through Friday.

(6) The facility is required to implement “Best Management Practices” including clean up spills as expeditiously as possible, weekly cleanup of truck area scales and process buildings, and “good housekeeping” to minimize fugitive dust emissions. The facility is also requires to post and maintain speed limit signs.

(7) The facility is required to limit public access posting signs at all facility boundaries that are not fenced. During days when the facility is operating, in-person surveillance shall be conducted and recorded by the facility. In lieu of in-person surveillance, the facility may maintain and operate equipment adequate to ensure surveillance of the boundary shared with the rail line.

D. Modeling Results

Iowa modeled five different cases to evaluate lead NAAQS compliance:

(1) The first case models combined impacts of both facilities on ambient air with Griffin Pipe operating under the “option A” control strategy described above;

(2) The second case models combined impacts of both facilities with Griffin Pipe operating under the “option B” control strategy described above;

(3) The third case models the impact of Griffin Pipe's lead emissions on Alter Metal Recycling with Griffin Pipe operating under the “option A” control strategy;

(4) The fourth case models the impact of Griffin Pipe's lead emissions on Alter Metal Recycling under the “option B” control strategy; and

(5) The fifth case models the impacts of Alter Metal Recycling's lead emissions on Griffin Pipe.

In all the modeling runs described above the Alter Metal Recycling control strategy remained the same as described in paragraph C.2 above.

The total impact of the combined lead emissions from both facilities with Griffin Pipe operating under “option A” was 0.149 µg/m³. The total impact of the combined lead emissions from both facilities with Griffin Pipe operating under “option B” was also 0.149 µg/m³. Thus, the modeling demonstrates that with Griffin Pipe operating under either “option A” or “option B” as a control strategy, the combined facility emissions will attain the 2008 Lead NAAQS. Under the other three scenarios, which examine the impact of the facilities on each other, the 2008 Lead NAAQS was also attained.

EPA reviewed and independently verified the modeling conducted by Iowa. Based on EPA's analysis of the attainment modeling and its outcomes, EPA believes that Iowa's control strategy, whether it includes “option A” or “option B” for Griffin Pipe, will bring the designated portions of Pottawattamie County, Iowa, into attainment of the 2008 Lead NAAQS.

E. Reasonably Available Control Measures (RACM) Including Reasonably Available Control Technology (RACT) and Reasonable Further Progress (RFP)

Section 172(c)(1) of the CAA requires nonattainment areas to implement all RACM, including emissions reductions through the adoption of RACT, as expeditiously as practicable. EPA interprets this as requiring all nonattainment areas to consider all available controls and to implement all measures that are determined to be reasonably available, except that measures which will not assist the area to more expeditiously attain the standard are not required to be implemented.² In March 2012, EPA issued guidance titled, “Implementation of Reasonably Available Control Measures (RACM) for Controlling Lead Emissions” (RACM Guidance).³

² See 58 FR 67751, December 22 1993, for a discussion of this interpretation as it relates to lead.

³ http://www.epa.gov/oar/lead/pdfs/2012ImplementationGuide.pdf>

Section 172(c)(2) of the CAA requires areas designated as nonattainment for criteria pollutants to include a demonstration of Reasonable Further Progress (RFP) in attainment demonstrations. Section 171(1) of the CAA defines RFP as annual incremental reductions in emissions of the relevant air pollutants as required by part D, or emission reductions that may reasonably be required by EPA to ensure attainment of the applicable NAAQS by the applicable date. Part D does not include specific RFP requirements for lead.

EPA recommends a RACT analysis for facilities emitting 0.5 tpy lead per year or more. (73 FR 66964). As listed in Table 1 above, in the base year for modeling, 2010, Griffin Pipe and Alter Metal Recycling emitted 1.0382 and 0.7182 tons per year, respectively. Thus, both facilities exceeded the threshold for determining RACT to comply with the 2008 Lead NAAQS. Section 4 of the lead attainment SIP details Iowa's RACT/RACM analysis by facility and point or fugitive emissions sources considered.

Iowa performed a RACT/RACM analysis in compliance with the RACM Guidance. As stated in the final lead NAAQS rule, RFP is satisfied by the strict adherence to a compliance schedule which is expected to periodically yield significant emission reductions. Iowa has determined that either control strategy for Griffin Pipe under “option A” or “option B” as described above, combined with the control strategy for Alter Metal Recycling, constitutes RACM. The control measures including operational controls and work practices described in paragraph V.C above have been modeled and demonstrated to achieve the lead NAAQS and also comply with RACM and RFP.

RFP is addressed by the control strategy occurring in a timeframe consistent with the CAA. Upon implementation of the control strategy and practices described above, ambient air quality concentrations are expected to drop at or below attainment levels immediately. The nonattainment area's ambient air quality monitor began reporting lead concentrations below the 2008 lead NAAQS for the three-month rolling average for October through December 2012. It should be noted that the air monitoring data are impacted by Griffin Pipe's shutdown on May 3, 2014. Griffin Pipe has informed Iowa that it intends to restart operations at an undetermined time in the future. Thus, the attainment SIP is based on the assumption that the facility will resume operations under one of the two control strategies detailed in paragraph V.C above.

Alter Metal Recycling began implementing its control measures by paving previously unpaved haul routes and sweeping with street sweeper equipped with a HEPA filter to remove lead-contaminated silt from the roadway. There are no point source lead emissions from the Alter Metal Recycling facility operations, only fugitive emissions from lead-contaminated silt on haul routes, the appropriate RACT is to significantly reduce fugitive emissions. The attainment SIP proposes a 95 percent reduction in fugitive lead emissions from sweeping all paved haul routes at the facility.

Based on the RACM analysis and the combined reduction in lead emissions to meet the 2008 Lead NAAQS, which demonstrates RFP, EPA proposes to approve Iowa's SIP as meeting the requirements of sections 172(c)(1) and (c)(2) of the CAA.

F. Attainment Demonstration

CAA section 172 requires a state to submit a plan for each of its nonattainment areas that demonstrates attainment of the applicable ambient air quality standard as expeditiously as practicable, but no later than the specified attainment date. This demonstration should consist of four parts: (1) Technical analyses that locate, identify, and quantify sources of emissions that are contributing to violations of the lead NAAQS; (2) analyses of future year emissions reductions and air quality improvement resulting from already-adopted national, state, and local programs and from potential new state and local measures to meet the RACT, RACM, and RFP requirements in the area; (3) adopted emissions reduction measures with schedules for implementation and (4) contingency measures required under section 172(c)(9) of the CAA.

The requirements for the first two parts are described in the sections on emissions inventories, RACT/RACM and air quality above and in the discussion of the attainment demonstration that follows immediately below. Requirements for the third and fourth parts are described in the sections on the control strategy and the contingency measures, respectively.

The future case dispersion modeling is the attainment demonstration used to verify that the proposed control strategies will bring the area into attainment of the 2008 Lead NAAQS. In order to determine whether the planned emission reduction strategies will result in attainment of the NAAQS, the modeled maximum lead concentration in ambient air (based on a rolling three-month average) are added to the calculated background lead concentration of 0.01 µg/m³, then compared to the 2008 Lead NAAQS which is 0.150 µg/m³. As discussed above there are two model runs to predict the cumulative impacts of both facilities with Griffin Pipe operating under the control strategy prescribed by “option A” under the Administrative Consent Order between the facility and Iowa, and the control strategy prescribed by “option B.” In both model runs, the control strategy for Alter Metal Recycling remains the same, it is the control strategy and work practices prescribed in the construction permit dated September 2, 2014. The predicted maximum three-month rolling average lead concentration is 0.149 µg/m³ with Griffin Pipe operating under either “option A” or “option B.” Therefore, Iowa's modeling demonstrates attainment of the standard regardless of which control strategy Griffin Pipe chooses when it restarts operations.

G. New Source Review (NSR)

Within the CAA, Section 172(c)(5) refers to permits for construction and operation of new and modified major sources located within the nonattainment area. A special permitting process applies to such sources, referred to as a nonattainment new source review program. Section 173 of the CAA mandates nonattainment new source review and an approved state SIP must meet the requirements of 40 CFR part 51.165. On May 15, 2014 (79 FR 277763), EPA approved into Iowa's SIP the nonattainment new source review regulations which are found in 567—Iowa Administrative Code (IAC) chapter 33. The modified administrative rules in chapter 33 became effective on January 15, 2014.

H. Contingency Measures

As required by CAA section 172(c)(9), the SIP submittal includes contingency measures to be implemented if EPA determines that the area has failed to make RFP or if the area fails to attain the NAAQS by December 2016. If the air quality data for any three-month rolling period after the implementation of the control measures identified in both the Administrative Consent Order between Iowa and Griffin Pipe or the construction permit for Alter Metal Recycling exceeds the 0.15 ug/m³ three-month rolling average lead standard, both facilities shall implement the contingency measures set forth in their respective governing documents.

The Administrative Consent Order for Griffin Pipe provided as appendix B of the attainment SIP contains the following contingency measures which apply to the facility under both control strategies for “option A” and “option B”:

(1) After November 30, 2014, the owner or operator shall increase the frequency of cleaning/sweeping of the haul roads to twice per day within seven days after notification by Iowa that a monitored exceedance has occurred. The owner operator shall also submit sweeping data to the state and continue daily cleaning/sweeping until notified by the state that a different cleaning/sweeping frequency shall be used.

(2) After November 30, 2014, the owner or operator shall implement good housekeeping practices on paved haul road surfaces within seven days after notification by the state that a monitored exceedance of the lead NAAQS occurred during months in which the inclement weather provision as specified in the control strategy described in V.C(5)(a) above applied. The good housekeeping practices shall include but are not limited to daily removal of material piles that have accumulated on haul road surfaces and decreasing vehicle speeds on paved road surfaces from fifteen miles per hour (mph) to five mph. The owner or operator shall continue good housekeeping practices on paved road surfaces until paved road sweeping resumes.

(3) If a monitored exceedance of the lead NAAQS occurs after the provisions of the above contingency measures have been implemented for three full calendar months the owner or operator will submit an emissions evaluation meeting the criteria and timeline specified by the state.

For Alter Metal Recycling, the following contingency measures contained in section 14, item L of the facility's construction permit apply:

(1) After November 30, 2014, the facility shall increase the frequency of cleaning/sweeping of the haul roads to daily within seven days after notification by the state that a monitored exceedance of the lead NAAQS occurred. The facility shall submit data to the state and continue daily cleaning/seeping until notified by the state that a different cleaning/sweeping frequency shall be used.

(2) If a monitored exceedance of the lead NAAQS occurs after the provisions of the above contingency measure have been implemented for three full calendar months,

Alter Metal Recycling shall submit an emissions evaluation meeting the criteria and timeline specified by the state.

These measures will help ensure compliance with the 2008 lead NAAQS as well as meet the requirements of section 172(c)(9) of the CAA.

EPA proposes to approve Iowa's SIP as meeting the requirements of section 172(c)(9) of the CAA.

I. Enforceability

As specified in section 172(c)(6) and section 110(a)(2)(A) of the CAA, and 57 FR 13556, all measures and other elements in the SIP must be enforceable by the state and EPA. The enforceable documents included in Iowa's SIP submittal are the Administrative Consent Order between Iowa and Griffin Pipe dated January 29, 2015, and the construction permit for Alter Metal Recycling dated September 2, 2014. These documents contain all control and contingency measures with enforceable dates for implementation. Upon EPA approval of the SIP submission, the Administrative Consent Order for Griffin Pipe and the construction permit for Alter Metal Recycling will become Federally enforceable, and enforceable by citizens under section 304 of the CAA.

EPA proposes to approve Iowa's SIP as meeting the requirements of sections 172(c)(6) and 110(a)(2)(A) of the CAA, and 57 FR 13556.

VI. Proposed Action

EPA is proposing to grant full approval of Iowa's attainment demonstration SIP for the Pottawattamie County 2008 lead NAAQS nonattainment area. EPA believes that the SIP submitted by the state satisfies the applicable requirements of the CAA identified in EPA's Final Rule (73 FR 66964, October 15, 2008), and will result in attainment of the 0.15 ug/m³ standard in the Pottawattamie County, Iowa, area.

VII. Incorporation by Reference

In this rule, EPA is proposing to include in a final EPA rule regulatory text that includes incorporation by reference. In accordance with requirements of 1 CFR 51.5, EPA is proposing to incorporate by reference the proposed amendments to 40 CFR part 52 set forth below. EPA has made, and will continue to make, these documents generally available electronically through www.regulations.gov and/or in hard copy at the appropriate EPA office (see the ADDRESSES section of this preamble for more information).

VIII. Statutory and Executive Order Reviews

Under the Clean Air Act (CAA), the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this proposed action and other required information to the U.S. Senate, the U.S. House of Representatives, and the Comptroller General of the United States prior to publication of the rule in the Federal Register. A major rule cannot take effect until 60 days after it is published in the Federal Register. This proposed action is not a “major rule” as defined by 5 U.S.C. 804(2).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: rules of particular applicability; rules relating to agency management or personnel; and rules of agency organization, procedure, or practice that do not substantially affect the rights or obligations of non-agency parties. 5 U.S.C. 804(3). Because this is a rule of particular applicability, EPA is not required to submit a rule report regarding this action under section 801.

Under section 307(b)(1) of the CAA, petitions for judicial review of this action must be filed in the United States Court of Appeals for the appropriate circuit by December 1, 2015. Filing a petition for reconsideration by the Administrator of this proposed rule does not affect the finality of this rulemaking for the purposes of judicial review nor does it extend the time within which a petition for judicial review may be filed, and shall not postpone the effectiveness of such future rule or action. This proposed action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 21, 2015.
Mark Hague,
Acting Regional Administrator, Region 7.

For the reasons stated in the preamble, EPA proposes to amend 40 CFR part 52 as set forth below:

PART 52—APPROVAL AND PROMULGATION OF IMPLEMENTATION PLANS

1. The authority citation for part 52 continues to read as follows:

Authority: 42 U.S.C. 7401 et. seq.

Subpart Q—Iowa

2. In § 52.820:

a. Amend the table in paragraph (d) by adding entries (110) and (111), in numerical order; and

b. Amend the table in paragraph (e) by adding entry (43), in numerical order.

The additions read as follows:

§ 52.820 Identification of plan.

* * * * *

(d) * * *

EPA-Approved Iowa Source-Specific Orders/Permits
Name of source | Order/permit No. | State effective date | EPA approval date | Explanation
* * * * * * *
(110) Griffin Pipe Products Co., LLC | Administrative Consent Order No. 2015-AQ-02 | 1/29/15 | 10/2/15 [Insert Federal Register citation] |
(111) Alter Metal Recycling | Permit No. 14-A-521 | 9/2/14 | 10/2/15 [Insert Federal Register citation] |

(e) * * *

EPA-Approved Iowa Nonregulatory Provisions
Name of nonregulatory SIP provision | Applicable geographic or nonattainment area | State submittal date | EPA approval date | Explanation
* * * * * * *
(43) Lead attainment SIP | Portions of Pottawattamie County | 1/30/15 | 10/2/15 [Insert Federal Register citation] | EPA-R07-OAR-2015-0582; FRL-9935-00-Region 7.

[FR Doc. 2015-24995 Filed 10-1-15; 8:45 am]

BILLING CODE 6560-50-P